ENVIRONMENTAL PROTECTION AGENCY

[FRL-6868-5]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held September 26-28, 2000 at the Holiday Inn, Silver Spring, MD. The CHPAC was created to advise the Environmental Protection Agency in the development of regulations, guidance and policies to address children's environmental health.

DATES: Tuesday, September 26, 2000 Work Group meetings only; plenary sessions Wednesday, September 27, 2000 and Thursday, September 28, 2000.

ADDRESSES: Holiday Inn Silver Spring, 8777 Georgia Avenue, Silver Spring, MD 20910-3703.

Agenda Items: The meetings of the CHPAC are open to the public. The Science and Research Work Group will meet from 9:30 a.m. to 5:00 p.m. and the 21st Century Work Group as well as the Data Needs Work Group will meet from 1:00 p.m. to 5:00 p.m. on Tuesday, September 26, 2000. The plenary CHPAC will meet on Wednesday, September 27, 2000 from 9:00 a.m. to 5:00 p.m. with a public comment period at 4:45 p.m. and on Thursday, September 28, 2000 from 9:00 a.m. to 4:30 p.m.

The plenary session will open with introductions and a review of the agenda and objectives for the meeting. Agenda items include highlights of the Office of Children's Health Protection (OCHP) activities and reports from the Work Groups.

FOR FURTHER INFORMATION CONTACT: Contact Paula R. Goode, Office of Children's Health Protection, USEPA, MC 1107, 401 M Street, SW, Washington, DC 20460, (202) 260-7778, goode.paula@epa.gov.

Dated: September 6, 2000.
Paula R. Goode,
Designated Federal Officer, Children's Health Protection Advisory Committee.

[FR Doc. 00-23648 Filed 9-13-00; 8:45 am]

BILLING CODE 6560-50-M